DEPARTMENT OF HEALTH AND HUMAN SERVICES

Centers for Disease Control and Prevention

[Program Announcement 00106]

World Health Organization for Hepatitis; Notice of Availability of Funds

A. Purpose

The Centers for Disease Control and Prevention (CDC) announces the availability of fiscal year (FY) 2000 funds for a cooperative agreement program for the World Health Organization (WHO) for hepatitis. CDC is committed to achieving the health promotion and disease prevention objectives of “Healthy People 2010”, a national activity to reduce morbidity and mortality and improve the quality of life. This announcement is related to the focus areas of Immunization and Infectious Diseases. For the conference copy of “Healthy People 2010”, visit the internet site http://www.health.gov/healthypeople.

The purpose of this cooperative agreement is to develop international programs for prevention and control of hepatitis A through immunization, hepatitis B immunization activities as part of national immunization programs of member states, supporting programs to prevent transmission of bloodborne hepatitis virus infections through unsafe injection and infection control practices, improving injection safety, and preventing transmission of hepatitis C virus (HCV) infections.

B. Eligible Applicants

Assistance will be provided only to the WHO. No other applications are solicited.

The WHO is the most appropriate and qualified agency to conduct the activities specified under this cooperative agreement because:

1. They are the only organization with the worldwide mandate to assist member nations in the control and prevention of vaccine preventable diseases.

2. They are responsible for implementation of the Expanded Programme on Immunization (EPI) and for the introduction of hepatitis B vaccine into the EPI of member states as stated by resolution of the World Health Assembly in 1992.

3. They are the only recognized international organization for providing the guidance and leadership needed to coordinate the multidisciplinary collaborations required to address elimination of unsafe injection, have an established activity to address this issue and serves as the secretariat for the Safe Injection Global Network (SIGN), a collaborative network comprised of member states and organizations.

4. They are the only recognized international organization to provide the guidance and leadership needed to coordinate the multidisciplinary collaborations required to address the control of hepatitis C virus infection and its chronic liver disease consequences and has an established activity to address this issue in their emerging infections program.

5. The proposed program is directly related to the achievement of WHO and the National Center for Infectious Diseases, CDC, objectives for the control and prevention of viral hepatitis, including hepatitis A, B, and C.

C. Availability of Funds

Approximately $300,000 is available in FY 2000 to fund this award. It is expected the award will begin on September 29, 2000, and will be made for a 12-month budget period within a project period of up to three years. The funding estimate may change.

A continuation award within an approved project period will be made on the basis of satisfactory progress as evidenced by required reports and the availability of funds.

D. Where To Obtain Additional Information

This and other Centers for Disease Control announcements can be found on the Centers for Disease Control home page Internet address—http://www.cdc.gov Click on “Funding” then “Grants and Cooperative Agreements”.

To obtain additional information, contact: Oppie Byrd, Grants Management Specialist, Grants Management Branch, Procurement and Grants Office, Centers for Disease Control and Prevention, Room 3000, 2920 Brandywine Road, Atlanta, GA 30341-4146, Telephone: (770) 488-2748, E-mail address: oxb3@cdc.gov.

For program technical assistance, contact: Richard Conlon, Centers for Disease Control and Prevention, National Center for Infectious Diseases, Division of Rickettsial Diseases, Hepatitis Branch, 1600 Clifton Road, NE, M/S G-37, Atlanta, GA 30333, Telephone: (404)371-5900, E-mail address: roc4@cdc.gov.

Dated: May 24, 2000.
John L. Williams,
Director, Procurement and Grants Office, Centers for Disease Control and Prevention (CDC).

[FR Doc. 00-13506 Filed 5-30-00; 8:45 am]

BILLING CODE 4163-18-P